ENVIRONMENTAL PROTECTION AGENCY

40 CFR Part 52

[EPA-R03-OAR-2012-0965; FRL-9778-9]

Approval and Promulgation of Air Quality Implementation Plans; District of Columbia; Volatile Organic Compounds Emissions Reductions Regulations

AGENCY: Environmental Protection Agency (EPA).

ACTION: Proposed rule.

SUMMARY: EPA is proposing to approve revisions to the District of Columbia (District) State Implementation Plan (SIP) submitted by the District Department of the Environment (DDOE) on March 15, 2012. These SIP revisions consist of amendments to Chapters 1 and 7 of Title 20 (Environment) of the District of Columbia Municipal Regulations (DCMR) for the Control of Volatile Organic Compounds (VOC) to meet the requirement to adopt reasonably available control technology (RACT) for sources as recommended by the Ozone Transport Commission (OTC) model rules and EPA's Control Techniques Guidelines (CTG) standards. On January 26, 2010 and March 24, 2011, DDOE submitted negative declarations to EPA for the following VOC source categories: Auto and Light-duty Truck Assembly Coatings, Fiberglass Boat Manufacturing Materials, Paper, Film and Foil Coatings, and Flatwood Paneling. EPA also proposes to approve the negative declarations. This action is being taken under the CAA.

DATES: Written comments must be received on or before March 13, 2013.

ADDRESSES: Submit your comments, identified by Docket ID Number EPA-R03-OAR-2012-0965 by one of the following methods:

A. www.regulations.gov. Follow the on-line instructions for submitting comments.

B. Email: mastro.donna@epa.gov.

C. Mail: EPA-R03-OAR-2012-0965, Donna Mastro, Acting Associate Director, Office of Air Program Planning, Mailcode 3AP30, U.S. Environmental Protection Agency, Region III, 1650 Arch Street, Philadelphia, Pennsylvania 19103.

D. Hand Delivery: At the previously-listed EPA Region III address. Such deliveries are only accepted during the Docket's normal hours of operation, and special arrangements should be made for deliveries of boxed information.

Instructions: Direct your comments to Docket ID No. EPA-R03-OAR-2012-0965. EPA's policy is that all comments received will be included in the public docket without change, and may be made available online at www.regulations.gov, including any personal information provided, unless the comment includes information claimed to be Confidential Business Information (CBI) or other information whose disclosure is restricted by statute. Do not submit information that you consider to be CBI or otherwise protected through www.regulations.gov or email. The www.regulations.gov Web site is an “anonymous access” system, which means EPA will not know your identity or contact information unless you provide it in the body of your comment. If you send an email comment directly to EPA without going through www.regulations.gov, your email address will be automatically captured and included as part of the comment that is placed in the public docket and made available on the Internet. If you submit an electronic comment, EPA recommends that you include your name and other contact information in the body of your comment and with any disk or CD-ROM you submit. If EPA cannot read your comment due to technical difficulties and cannot contact you for clarification, EPA may not be able to consider your comment. Electronic files should avoid the use of special characters, any form of encryption, and be free of any defects or viruses.

Docket: All documents in the electronic docket are listed in the www.regulations.gov index. Although listed in the index, some information is not publicly available, i.e., CBI or other information whose disclosure is restricted by statute. Certain other material, such as copyrighted material, is not placed on the Internet and will be publicly available only in hard copy form. Publicly available docket materials are available either electronically in www.regulations.gov or in hard copy during normal business hours at the Air Protection Division, U.S. Environmental Protection Agency, Region III, 1650 Arch Street, Philadelphia, Pennsylvania 19103. Copies of the State submittal are available at the District. Department of the Environment, Air Quality Division, 1200 1st Street NE., 5th floor, Washington, DC 20002.

FOR FURTHER INFORMATION CONTACT: Gregory Becoat, (215) 814-2036, or by email at becoat.gregory@epa.gov.

SUPPLEMENTARY INFORMATION:

I. EPA Action

II. Background and Description of the District's SIP Revision

III. Proposed Action

IV. Statutory and Executive Order Review

I. EPA Action

EPA is proposing to approve revisions to the District's SIP which were submitted by DDOE on January 26, 2010, March 24, 2011 and March 15, 2012. The SIP revision submittals consist of amendments to the District's regulations to impose the VOC RACT requirements as recommended by OTC's model rules for consumer products, adhesives and sealants, architectural and industrial maintenance, portable fuel containers and spouts, and solvent cleaning and also include VOC RACT requirements consistent with EPA's CTGs for flexible packaging and printing, large appliance coatings, metal furniture coatings, and miscellaneous metal products and plastic parts coatings, lithographic and letterpress printing, miscellaneous industrial adhesives, and industrial cleaning solvents. Specifically, DDOE has amended 20 DCMR Chapters 1 and 7 to impost RACT and reduce further VOC emissions in the District. These amendments reflect technology developments and expand VOC emission controls, as well as reflect the RACT requirements in EPA's CTGs and the recommended control requirements of the OTC model rules. EPA is also proposing to approve the negative declarations submitted for Auto and Light-duty Truck Assembly Coatings, Fiberglass Boat Manufacturing Materials, Paper, Film and Foil Coatings, and Flatwood Paneling because EPA agrees with the DDOE's declaration that no sources for these categories are located in the District.

II. Background and Description of the District's SIP Revision

The Washington Metropolitan Area, which includes the District, is designated nonattainment for the 2008 eight-hour national ambient air quality standards (NAAQS) for ozone. As a result, the District is required to adopt measures to reduce ozone levels, including precursor emissions of VOCs. The standards and requirements contained in the District's regulations to reduce VOCs and precursors of ozone incorporate the level of control recommended in the OTC model rules. The OTC model rules are based on the existing rules developed by the 1998 California Air Resources Board (CARB) RACT determination. Implementing the model rules will result in VOC emission reductions in VOC at least as stringent as any applicable CTGs and will support attainment demonstrations and reductions in ground-level ozone.

In addition to adopting RACT regulations consistent with the level of control recommended by the OTC model rules, the District also adopted VOC RACT regulations consistent with the requirements of several CTGs published by EPA. Section 172(c)(1) of the CAA provides that SIPs for nonattainment areas must include reasonably available control measures (RACM), including RACT, for sources of emissions. Section 182(b)(2)(A) provides that for certain nonattainment areas, states must revise their SIP to include RACT for sources of VOC emissions covered by a CTG document issued after November 15, 1990 and prior to the area's date of attainment. EPA defines RACT as “the lowest emission limitation that a particular source is capable of meeting by the application of control technology that is reasonably available considering technological and economic feasibility.” 44 FR 53761 (Sept. 17, 1979). In subsequent Federal Register notices, EPA has addressed how states can meet the RACT requirements of the CAA.

CTGs are documents issued by EPA intended to provide state and local air pollution control authorities information that should assist them in determining RACT for VOC from various sources. In either case, states must submit their RACT rules to EPA for review and approval as SIP revisions. Implementing EPA's CTGs will reduce emissions of VOC from source categories and help the District attain and maintain the NAAQS for ozone.

On January 26, 2010, March 24, 2011 and March 15, 2012, DDOE submitted SIP revisions consisting of negative declarations for certain VOC source categories and VOC RACT regulations consistent with the recommendations contained in the OTC's model rules and EPA's CTGs for the control of VOC from various VOC source categories. The District has revised the following sections of 20 DCMR Chapters 1 and 7 to impose RACT: section 100, “Purpose, Scope, And Construction,” section 199, “Definitions and Abbreviations,” section 700, “Miscellaneous Volatile Organic Compounds,” section 707, “Perchloroethylene Dry Cleaning,” section 708, “Solvent Cleaning,” section 710, “Intaglio, Flexographic, And Rotogravure Printing,” section 714, “Controls And Prohibitions on Gasoline Volatility,” section 715, “Reasonably Available Control Technology,” section 716, “Offset Lithography,” sections 719 to 737, “Consumer Products,” sections 743 to 749, “Adhesives and Sealants,” sections 751 to 758, “Portable Fuel Containers And Spouts (currently SIP sections 735 through 741),” sections 763 to 769, “Solvent Cleaning (currently SIP sections 742 through 748),” section 770, “Miscellaneous Industrial Solvent Cleaning Operations,” section 771, “Miscellaneous Cleaning And VOC Materials Handling Standards,” sections 773 to 778, “Architectural And Industrial Maintenance Coating (currently SIP sections 749 through 754),” and section 799, “Definitions.” A more complete explanation of the changes and EPA's analysis of the changes, are contained in the technical support document (TSD) prepared in support of this proposed rulemaking. A copy of this TSD is located in the docket of this proposed rulemaking.

III. Proposed Action

EPA is proposing to approve the District of Columbia's SIP revisions submitted on January 26, 2010, March 24, 2011 and March 15, 2012, adopting VOC RACT requirements for various source categories. EPA is also proposing to approve the District's negative declarations pursuant to section 182(b)(2)(A) of the CAA for those CTG categories where no sources are located in the District. EPA is soliciting public comments on the issues discussed in this document. These comments will be considered before taking final action.

IV. Statutory and Executive Order Reviews

Under the CAA, the Administrator is required to approve a SIP submission that complies with the provisions of the CAA and applicable Federal regulations. 42 U.S.C. 7410(k); 40 CFR 52.02(a). Thus, in reviewing SIP submissions, EPA's role is to approve state choices, provided that they meet the criteria of the CAA. Accordingly, this action merely proposes to approve state law as meeting Federal requirements and does not impose additional requirements beyond those imposed by state law. For that reason, this proposed action:

• Is not a “significant regulatory action” subject to review by the Office of Management and Budget under Executive Order 12866 (58 FR 51735, October 4, 1993);

• Does not impose an information collection burden under the provisions of the Paperwork Reduction Act (44 U.S.C. 3501 et seq.);

• Is certified as not having a significant economic impact on a substantial number of small entities under the Regulatory Flexibility Act (5 U.S.C. 601 et seq.);

• Does not contain any unfunded mandate or significantly or uniquely affect small governments, as described in the Unfunded Mandates Reform Act of 1995 (Pub. L. 104-4);

• Does not have Federalism implications as specified in Executive Order 13132 (64 FR 43255, August 10, 1999);

• Is not an economically significant regulatory action based on health or safety risks subject to Executive Order 13045 (62 FR 19885, April 23, 1997);

• Is not a significant regulatory action subject to Executive Order 13211 (66 FR 28355, May 22, 2001);

• Is not subject to requirements of Section 12(d) of the National Technology Transfer and Advancement Act of 1995 (15 U.S.C. 272 note) because application of those requirements would be inconsistent with the CAA; and

• Does not provide EPA with the discretionary authority to address, as appropriate, disproportionate human health or environmental effects, using practicable and legally permissible methods, under Executive Order 12898 (59 FR 7629, February 16, 1994).

In addition, this proposed rule, pertaining to District's amendments to regulations for the control of VOCs, does not have tribal implications as specified by Executive Order 13175 (65 FR 67249, November 9, 2000), because the SIP is not approved to apply in Indian country located in the state, and EPA notes that it will not impose substantial direct costs on tribal governments or preempt tribal law.

List of Subjects in 40 CFR Part 52

Environmental protection, Air pollution control, Incorporation by reference, Intergovernmental relations, Ozone, Volatile organic compounds.

Authority: 42 U.S.C. 7401 et seq.

Dated: January 29, 2013.
W.C. Early,
Acting Regional Administrator, Region III.

[FR Doc. 2013-02920 Filed 2-8-13; 8:45 am]

BILLING CODE 6560-50-P